DEPARTMENT OF AGRICULTURE

Rural Utilities Service

Brazos Electric Power Cooperative, Inc.; Notice of Intent To Hold a Public Workshop and Prepare an Environmental Assessment

AGENCY: Rural Utilities Service, USDA.

ACTION: Notice of intent to hold a public workshop and prepare an Environmental Assessment.

SUMMARY: The Rural Utilities Service (RUS) intends to hold a public scoping workshop and prepare an Environmental Assessment (EA) in connection with possible impacts related to the construction and operation of a new gas-fired combustion turbine generation facility. The project, Hill County Generation Facility, is proposed by Brazos Electric Power Cooperative, Inc. (Brazos), of Waco, Texas. RUS may provide financial assistance for the project. The public scoping workshop is scheduled for Thursday, May 21, 2015, from 4:00 p.m. until 7:00 p.m. in the Community Hall of the First Presbyterian Church at 106 N. Lamar, Itasca, TX 76055.

FOR FURTHER INFORMATION CONTACT: Dennis E. Rankin, Environmental Protection Specialist, RUS, Engineering and Environmental Staff, Stop 1571, 1400 Independence Avenue SW., Washington, DC 20250-1571, Telephone: (202) 720-1953 or email: dennis.rankin@wdc.usda.gov; or Dave McDaniel, Brazos Electric Power, 7616 Bagby Avenue, Waco, Texas 76712, Telephone: (254) 750-6324 or email: dmcdaniel@brazoselectric.com.

SUPPLEMENTARY INFORMATION: Brazos is proposing to construct a new gas-fired combustion turbine generation facility and is evaluating a potential site located in Hill County, Texas. The 40 acre site is located in the northeast corner of Hill County approximately 8 miles east of Itasca, Texas on FM 66 just west of the Hill County line. Associated facilities include a 4.5 mile gas pipeline and new switching facilities to connect the generation plant to existing transmission lines crossing the site.

Comments regarding the proposed project may be submitted in writing at the public scoping workshop or in writing no later than June 21, 2015, to RUS at the address provided above.

An Environmental Assessment (EA) will be prepared for the proposed project. Based on a review of the EA and other relevant information, RUS will determine if the preparation of an Environmental Impact Statement is necessary. Should RUS determine that the preparation of an Environmental Impact Statement is not necessary, it will prepare a Finding of No Significant Impact.

Any final action by RUS related to the proposed project will be subject to, and contingent upon, compliance with all relevant Federal, State, and local environmental laws and regulations and completion of the environmental review procedures as prescribed by RUS' Environmental Policies and Procedures.

Richard Fristik,
Acting Director, Engineering and Environmental Staff, Rural Utilities Service.

[FR Doc. 2015-10943 Filed 5-6-15; 8:45 am]

BILLING CODE 3410-15-P